DEPARTMENT OF THE INTERIOR

Bureau of Reclamation

[RR83550000, 167R5065C6, RX.59389832.1009676]

Quarterly Status Report of Water Service, Repayment, and Other Water-Related Contract Actions

AGENCY: Bureau of Reclamation, Interior.

ACTION: Notice.

SUMMARY: Notice is hereby given of contractual actions that have been proposed to the Bureau of Reclamation (Reclamation) and are new, discontinued, or completed since the last publication of this notice. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section.

FOR FURTHER INFORMATION CONTACT: Michelle Kelly, Reclamation Law Administration Division, Bureau of Reclamation, P.O. Box 25007, Denver, Colorado 80225-0007; telephone 303-445-2888.

SUPPLEMENTARY INFORMATION: Consistent with section 9(f) of the Reclamation Project Act of 1939, and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his or her designated public contact as they become available for review and comment.

7. In the event modifications are made in the form of a proposed contract, the appropriate regional director shall determine whether republication of the notice and/or extension of the comment period is necessary.

Factors considered in making such a determination shall include, but are not limited to, (i) the significance of the modification, and (ii) the degree of public interest which has been expressed over the course of the negotiations. At a minimum, the regional director will furnish revised contracts to all parties who requested the contract in response to the initial public notice.

Definitions of Abbreviations Used in the Reports

ARRA American Recovery and Reinvestment Act of 2009

BCP Boulder Canyon Project

Reclamation Bureau of Reclamation

CAP Central Arizona Project

CUP Central Utah Project

CVP Central Valley Project

CRSP Colorado River Storage Project

FR Federal Register

IDD Irrigation and Drainage District

ID Irrigation District

M&I Municipal and industrial

NMISC New Mexico Interstate Stream Commission

O&M Operation and maintenance

OM&R Operation, maintenance, and replacement

P-SMBP Pick-Sloan Missouri Basin Program

PPR Present Perfected Right

RRA Reclamation Reform Act of 1982

SOD Safety of Dams

SRPA Small Reclamation Projects Act of 1956

USACE U.S. Army Corps of Engineers

WD Water District

Pacific Northwest Region: Bureau of Reclamation, 1150 North Curtis Road, Suite 100, Boise, Idaho 83706-1234, telephone 208-378-5344.

New contract actions:

17. Willow Creek District Improvement Company, Willow Creek Project, Oregon: Amend to increase the amount of storage water made available under the existing long-term contract from 2,500 to 3,500 acre-feet.

18. East Columbia Basin ID, Columbia Basin Project, Washington: Amendment of renewal master water service contract, contract No. 159E101882, to authorize up to an additional 70,000 acres within the District that are located within the Odessa Subarea and eligible to participate in the Odessa Groundwater Replacement Program, to receive Columbia Basin Project irrigation water service.

19. Talent, Medford, and Rogue River Valley IDs; Rogue River Basin Project; Oregon: Contracts for repayment of reimbursable shares of SOD program modifications for Hyatt Dam.

20. Stanfield ID, Umatilla Basin Project, Oregon: A long-term water service contract to provide for the use of conjunctive use water, if needed, for the purposes of pre-saturation or failure of District diversion facilities.

Mid-Pacific Region: Bureau of Reclamation, 2800 Cottage Way, Sacramento, California 95825-1898, telephone 916-978-5250.

The Mid-Pacific Region has no updates to report for this quarter.

Lower Colorado Region: Bureau of Reclamation, P.O. Box 61470 (Nevada Highway and Park Street), Boulder City, Nevada 89006-1470, telephone 702-293-8192.

New contract actions:

21. Imperial ID, Lower Colorado River Water Supply Project, California: Develop an agreement between Reclamation and Imperial ID for the funding of design, construction, and installation of power facilities for the Project.

22. Mohave County Water Authority, BCP, Arizona: Amend Exhibit B to the Authority's Colorado River water delivery contract to update the annual diversion amounts to be used within the contract service areas.

23. City of Chandler and the Gila River Indian Community, CAP, Arizona: Approve a CAP water lease for the Community to lease 2,450 acre-feet per year of its CAP water to Chandler for 100 years. (The United States is not a party to this lease agreement, but must approve the lease agreement pursuant to the Arizona Water Settlements Act and the Community's amended CAP water delivery contract.)

24. City of Chandler and the Gila River Indian Community, CAP, Arizona: Approve a reclaimed water exchange agreement beginning January 1, 2019, for 50 years. The Agreement will allow for the exchange of Chandler reclaimed water for Community CAP water. The Community will accept delivery of up to 4,225 acre-feet per year of Chandler reclaimed water, in exchange for up to 3,380 acre-feet of Community CAP water. (The United States is not a party to this agreement, but must approve the agreement pursuant to the Arizona Water Settlements Act.)

25. Avra Water Co-op, Inc. and the Town of Marana, CAP, Arizona: Execute a proposed assignment to the Town of Marana of Avra Water Co-op's 808 acre-foot annual CAP M&I water entitlement. This proposed action will increase the Town of Marana's entitlement to 2,336 acre-feet per annum and will eliminate Avra Water Co-op's entitlement.

Completed contract actions:

16. San Carlos Apache Tribe and the Town of Gilbert, CAP, Arizona: Execute Amendment No. 5 to a CAP water lease to extend the term of the lease in order for the San Carlos Apache Tribe to lease 20,000 acre-feet of its CAP water to the Town of Gilbert during calendar year 2016. Contract executed March 23, 2016.

19. Ak-Chin Indian Community and Del Webb Corporation, CAP, Arizona: Execute a CAP water lease in order for Ak-Chin Indian Community to lease 2,800 acre-feet of its CAP water to the Del Webb Corporation during calendar year 2016. Contract completed May 12, 2016.

Upper Colorado Region: Bureau of Reclamation, 125 South State Street, Room 8100, Salt Lake City, Utah 84138-1102, telephone 801-524-3864.

New contract actions:

32. Utah Division of State Parks, Utah: Requested an early renewal of its 11 State Parks Agreement for recreation management at various Reclamation Reservoirs.

33. State of Wyoming, Seedskadee Project; Wyoming: The Wyoming Water Development Commission is interested in purchasing an additional 65,000 acre-feet of M&I water from Fontenelle Reservoir.

34. Newton Water Users Association, Newton Project; Utah: The Utah Division of Wildlife Resources desires to install a fish screen on the outlet works of Newton Dam. This requires a supplementary O&M agreement to approve modification to Federal Reclamation facilities.

35. Strawberry High Line Canal Company, Strawberry Valley Project; Utah: The Strawberry High Line Canal Company has requested a conversion of up to 20,000 acre-feet of irrigation water to be allowed for miscellaneous use.

36. Sweetwater County; Flaming Gorge Unit, CRSP; Wyoming: Sweetwater County has requested a water service contract for 1 acre-foot of M&I water annually from Flaming Gorge Reservoir.

37. Grand Valley Water Users Association and Orchard Mesa ID, Grand Valley Project, Colorado: A contract for repayment of extraordinary maintenance of the Grand Valley Power Plant funded pursuant to Subtitle G of Public Law 111-11.

Completed contract actions:

8. Provo Reservoir Water Users Company, Provo River Project, Utah: The Company has requested a contract to store up to 5,000 acre-feet on its nonproject water in Deer Creek Reservoir on a space-available basis under the authority of the Warren Act of 1911. Contract executed April 20, 2016.

16. Aamodt Litigation Settlement, San Juan-Chama Project, New Mexico: Contract for 1,079 acre-feet of San Juan-Chama Project water for M&I use with the four Pueblos included in the Aamodt Litigation Settlement Act, Title VI of Public Law 111-291. The four Pueblos are the Nambe, Pojoaque, San Ildefonso, and Tesuque. Contract executed January 21, 2016.

30. Jicarilla Apache Nation, Navajo Project, New Mexico: Water service agreement between the Jicarilla Apache Nation and the San Juan Basin Water Haulers Association for delivery of 200 acre-feet of M&I water from the Jicarilla's settlement water from the Navajo Reservoir Supply. This agreement will have a term of 5 years (2016-2020) and will replace the expired previous agreement which was in place for 10 years. Contract became effective January 1, 2016.

Great Plains Region: Bureau of Reclamation, P.O. Box 36900, Federal Building, 2021 4th Avenue North, Billings, Montana 59101, telephone 406-247-7752.

New contract action:

42. Yellowtail Unit, P-SMBP, Montana: Negotiation of a water allocation agreement with the Crow Tribe for 300,000 acre-feet of storage in Bighorn Lake pursuant to the Crow Tribe Water Rights Settlement Act of 2010 (Pub. L. 111-291, enacted December 8, 2010).

Discontinued contract actions:

35. Bryan Hauxwell, Frenchman Cambridge Project, Nebraska: Consideration of a long-term Warren Act contract.

39. South Chester County WD; Lower Marias Unit, P-SMBP; Montana: Consideration to renew of long-term M&I water service contract No. 14-06-600-2022A.

Completed contract actions:

20. Altus Dam, W.C. Austin Project, Oklahoma: Consideration of a contract(s) for repayment of SOD costs. Contract executed May 2, 2016.

23. Savage ID; Savage Unit, P-SMBP; Montana: Intent to renew the repayment contract to provide for a long-term-water supply to the District. Contract executed May 6, 2016.

25. Guernsey Dam, North Platte Project, Nebraska and Wyoming: O&M repayment contracts with North Platte Project contractors for the repayment of extraordinary maintenance associated with Guernsey Dam. Contract executed May 12, 2016.

37. Mitchell County Rural Water District No. 2; Glen Eldecr Unit, P-SMBP; Kansas: Consideration to renew long-term water delivery contract No. 7-07-70-W0108. Contract executed April 18, 2016.

42. Yellowtail Unit, P-SMBP, Montana: Negotiation of a water allocation agreement with the Crow Tribe for 300,000 acre-feet of storage in Bighorn Lake pursuant to the Crow Tribe Water Rights Settlement Act of 2010 (Pub. L. 111-291, enacted December 8, 2010). Contract executed March 30, 2016.

Dated: June 29, 2016.
Roseann Gonzales,
Director, Policy and Administration.

[FR Doc. 2016-19483 Filed 8-15-16; 8:45 am]

BILLING CODE 4332-90-P